DEPARTMENT OF TRANSPORTATION

Federal Aviation Administration

14 CFR Part 73

[Docket No. FAA-2014-0260; Airspace Docket No. 13-AEA-19]

RIN 2120-AA66

Amendment of Restricted Areas R-5001A and R-5001B, Fort Dix, NJ

AGENCY: Federal Aviation Administration (FAA), DOT.

ACTION: Final rule; Technical amendment.

SUMMARY: This action updates the descriptions of restricted areas R-5001A and R-5001B, Fort Dix, NJ, to reflect the renaming of the military installation as “Joint Base McGuire-Dix-Lakehurst, NJ,” update the controlling and using agency information, eliminate redundant wording, and adjust by one second the longitude coordinate for the first point in the description of R-5001A. This action does not alter the boundaries or the use of the restricted areas.

DATES: Effective date: 0901 UTC, July 24, 2014.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

Restricted areas R-5001A and R-5001B were originally designated at Fort Dix, NJ. As a result of Department of Defense Joint Basing actions, McGuire Air Force Base, Fort Dix and Naval Air Engineering Station Lakehurst were combined under single Joint Base leadership and renamed as “Joint Base McGuire-Dix-Lakehurst, NJ.”

Restricted areas R-5001A and R-5001B share identical boundaries. R-5001A extends from the surface to 4,000 feet MSL. R-5001B overlies R-5001A and extends from 4,000 feet MSL to 8,000 feet MSL. A review of the legal description of R-5001A revealed a minor (one second) error in the longitude coordinate for the first point in the description. That longitude reads “74°27′00″ W. The same point in the R-5002B description reads “74°26′59″ W.” After review, it was determined that the point in the R-5001B description is correct; therefore, this action changes the point in the R-5001A description to match R-5001B. Since this is a minor change, the depiction of the areas on aeronautical charts is not affected.

In addition, several editorial changes to the descriptions of both restricted areas are required to remove redundant wording from the designated altitudes, increase the advance time requirement for issuing Notices to Airmen (NOTAM), change the ATC facility designated as the controlling agency, and update the using agency name to reflect the user's current organizational title and “joint base” status.

The above changes do not alter the location or use of the restricted areas from the current parameters.

The Rule

This action amends Title 14 Code of Federal Regulations (14 CFR) part 73 by changing the location name in the title of restricted areas R-5001A and R-5001B from “Fort Dix, NJ,” to “Joint Base McGuire-Dix-Lakehurst, NJ.” In addition, the first longitude coordinate in the description of R-5001A is changed from “long. 74°27′00″ W.” to “long. 74°26′59″ W.” This change corrects a one second difference between the affected point in R-5001A and a shared common point in the description of R-5001B (which overlies R-5001A).

For R-5001A, the designated altitudes are changed from “Surface to and including 4,000 feet MSL”, to “Surface to 4,000 feet MSL.” In 14 CFR 73.3, the word “to” is defined as meaning “to and including;” therefore, the words “and including” are not required. The time of designation is changed from “0600 to 2330, local time daily; other times by NOTAM issued one hour in advance”, to “0600 to 2330 local time, daily; other times by NOTAM at least four hours in advance.” This change increases the NOTAM requirement from one hour in advance to four hours in advance to comply with current guidance and to provide the public with additional advance notice of planned activation of the airspace.

For R-5001B, the designated altitudes are changed from “From 4,000 feet MSL to and including 8,000 feet MSL”, to “4,000 feet MSL to 8,000 feet MSL.” The time of designation is amended by adding the words “at least” between the words “NOTAM” and “48 hours in advance.”

The controlling agency for both R-5001A and R-5001B is changed from “FAA, New York ARTCC,” to “U.S. Air Force, McGuire Radar Approach Control.” This change is made because R-5001A and R-5001B lie completely within the airspace delegated to McGuire Radar Approach Control by New York ARTCC. The using agency name for both restricted areas is changed from “Commanding General, Fort Dix, NJ,” to “Commanding Officer, U.S. Army Support Activity, Joint Base McGuire-Dix-Lakehurst, NJ.” This change reflects an administrative name change of the using agency's organization and its leadership due to the renaming of the Fort Dix military installation as a “joint base.”

These changes update the descriptions of existing restricted areas R-5001A and R-5001B without altering the boundaries, or activities conducted within, the areas; therefore, I find that notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the technical descriptions of restricted areas to ensure that accurate information is available to the flying public.

Environmental Review

The FAA has determined that this action qualifies for categorical exclusion under the National Environmental Policy Act in accordance with FAA Order 1050.1E, Environmental Impacts: Policies and Procedures, paragraph 311d. This airspace action is an administrative change to correct and update the descriptions of restricted areas R-5001A and R-5001B to reflect current information. It does not alter the actual location, charted dimensions or use of the airspace; therefore, it is not expected to cause any potentially significant environmental impacts, and no extraordinary circumstances exists that warrant preparation of an environmental assessment.

List of Subjects in 14 CFR Part 73

Airspace, Navigation (air), Security measures.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.50 [Amended]

2. Section 73.50 is amended as follows:

R-5001A Joint Base McGuire-Dix-Lakehurst, NJ [Amended]

Boundaries. Beginning at Lat. 40°02′45″ N., long. 74°26′59″ W.; to lat. 40°00′00″ N., long. 74°26′19″ W.; to lat. 39°59′00″ N., long. 74°25′07″ W.; to lat. 39°58′00″ N., long. 74°24′59″ W.; to lat. 39°57′30″ N., long. 74°25′16″ W.; to lat. 39°57′23″ N., long. 74°25′49″ W.; to lat. 39°58′45″ N., long. 74°27′59″ W.; to lat. 39°58′45″ N., long. 74°31′24″ W.; to lat. 39°59′15″ N., long. 74°33′29″ W.; to lat. 40°01′53″ N., long. 74°33′29″ W.; to lat. 40°02′45″ N., long. 74°32′29″ W.; to the point of beginning.

Designated altitudes. Surface to 4,000 feet MSL.

Time of designation. 0600 to 2330 local time, daily; other times by NOTAM issued at least four hours in advance.

Controlling agency. U.S. Air Force, McGuire Radar Approach Control.

Using agency. Commanding Officer, U.S. Army Support Activity, Joint Base McGuire-Dix-Lakehurst, NJ.

R-5001B Joint Base McGuire-Dix-Lakehurst, NJ [Amended]

Boundaries. Beginning at Lat. 40°02′45″ N., long. 74°26′59″ W.; to lat. 40°00′00″ N., long. 74°26′19″ W.; to lat. 39°59′00″ N., long. 74°25′07″ W.; to lat. 39°58′00″ N., long. 74°24′59″ W.; to lat. 39°57′30″ N., long. 74°25′16″ W.; to lat. 39°57′23″ N., long. 74°25′49″ W.; to lat. 39°58′45″ N., long. 74°27′59″ W.; to lat. 39°58′45″ N., long. 74°31′24″ W.; to lat. 40°01′53″ N., long. 74°33′29″ W.; to lat. 40°02′45″ N., long. 74°32′29″ W.; to the point of beginning.

Designated altitudes. 4,000 feet MSL to 8,000 feet MSL.

Time of designation. Continuous, sunrise Friday to sunset Sunday, other times by NOTAM at least 48 hours in advance.

Controlling agency. U.S. Air Force, McGuire Radar Approach Control.

Using agency. Commanding Officer, U.S. Army Support Activity, Joint Base McGuire-Dix-Lakehurst, NJ.

Issued in Washington, DC on May 8, 2014.
Gary A. Norek,
Manager, Airspace Policy and Regulations Group.

[FR Doc. 2014-11104 Filed 5-14-14; 8:45 am]

BILLING CODE 4910-13-P